DEPARTMENT OF LABOR

Employment and Training Administration

[TA-W-83,184]

Redflex Traffic Systems, Inc.; Engineering Department; North American Division; Phoenix, Arizona; Notice of Revised Determination on Reconsideration

The initial investigation resulted in a negative determination was based on the Department's findings that the petitioning worker group at Redflex Traffic Systems, Inc., North American Division, Phoenix, Arizona (subject firm) did not meet the eligibility criteria of the Trade Act, as amended. The Department's Notice of determination was published in the Federal Register on February 13, 2014 (79 FR 8736).

The request for reconsideration asserts that the petition for Trade Adjustment Assistance was filed on behalf of the Engineering Department and that the scope of the initial investigation was too broad and, therefore, detrimental to the petitioning workers.

Based on information collected from the subject firm during the reconsideration investigation, the Department determines that the subject firm shifted to a foreign country the supply of services like or directly competitive with those provided by the workers of Redflex Traffic Systems, Inc., North American Division, Engineering Department, Phoenix, Arizona.

Conclusion

After careful review of the additional facts obtained on reconsideration, I determine that workers of Redflex Traffic Systems, Inc., North American Division, Engineering Department, Phoenix, Arizona, meet the worker group certification criteria under Section 222(a) of the Act, 19 U.S.C. 2272(a). In accordance with Section 223 of the Act, 19 U.S.C. 2273, I make the following certification:

All workers of Redflex Traffic Systems, Inc., North American Division, Engineering Department, Phoenix, Arizona, who became totally or partially separated from employment on or after October 29, 2012, through two years from the date of this certification, and all workers in the group threatened with total or partial separation from employment on date of certification through two years from the date of certification, are eligible to apply for adjustment assistance under Chapter 2 of Title II of the Trade Act of 1974, as amended.

Signed in Washington, DC, this 29th day of April, 2014.
Del Min Amy Chen,
Certifying Officer, Office of Trade Adjustment Assistance.

[FR Doc. 2014-11640 Filed 5-20-14; 8:45 am]

BILLING CODE 4510-FN-P